DEPARTMENT OF LABOR

Employment and Training Administration

[TA-W-81,589; TA-W-81,589A]

Hydro Aluminum North America, Inc., Midwest Region, Including On-Site Leased Workers From Employment Group, Aerotek, and Manpower, Kalamazoo, Michigan; Hydro Aluminum North America, Inc., Midwest Region, Including On-Site Leased Workers From Penmac, Monett, Missouri; Amended Certification Regarding Eligibility To Apply for Worker Adjustment Assistance

In accordance with Section 223 of the Trade Act of 1974, as amended (“Act”), 19 U.S.C. 2273, the Department of Labor issued a Certification of Eligibility to Apply for Worker Adjustment Assistance on July 3, 2012, applicable to workers and former workers of Hydro Aluminum North America, Inc., Kalamazoo, Michigan. The subject worker group includes on-site leased workers from Employment Group, Aerotek, and Manpower. The workers' firm is engaged in activities related to the production of extruded aluminum rod, bar, and other extruded shapes.

The certification was based on the Department's findings that the criteria set forth in Section 222(e) of the Act, 19 U.S.C. 2272(e), have been met.

Based on information provided in a later-filed petition, the Department reviewed the certification for workers of the subject firm.

Additional information provided by the company official revealed that the Kalamazoo, Michigan facility is not part of the Kalamazoo Division but is part of the Midwest Region. The certification is being amended to reflect this correction.

The new information also revealed that the Midwest Region includes facilities in Indiana, Missouri, Ohio and Michigan, and that Regional operation is coordinated through the Kalamazoo, Michigan facility. The Monett, Missouri facility has ceased operations and work formerly completed at that facility has been moved to the remaining Midwest Region facilities. The worker group at the Monett, Missouri facility includes on-site leased workers from Penmac.

The intent of the Department's certification is to include all workers of the subject firm who were adversely affected by imports of certain aluminum extrusions from China.

Based on these findings, the Department is amending this certification to include workers and former workers of the Monett, Missouri facility of Hydro Aluminum North America, Inc., Midwest Region, including on-site leased workers of Penmac.

The amended notice applicable to TA-W-81,589 is hereby issued as follows:

All workers of Hydro Aluminum North America, Inc., Midwest Region, including on-site leased workers from Employment Group, Aerotek, and Manpower, Kalamazoo, Michigan (TA-W-81,589), and Hydro Aluminum North America, Inc., Midwest Region, including on-site leased workers from Penmac, Monett, Missouri (TA-W-81,589A), who became totally or partially separated from that employment on or after May 19, 2010 through May 19, 2012, are eligible to apply for adjustment assistance under Chapter 2 of Title II of the Trade Act of 1974, as amended.

Signed in Washington, DC this 3rd day of October, 2012.
Del Min Amy Chen,
Certifying Officer, Office of Trade Adjustment Assistance.

[FR Doc. 2012-25199 Filed 10-12-12; 8:45 am]

BILLING CODE 4510-FN-P